DEPARTMENT OF COMMERCE

Foreign-Trade Zones Board

[Docket 10-2010]

Foreign-Trade Zone 21—Charleston, SC, Application for Subzone, Luigi Bormioli Corporation (Glassware), Barnwell, SC

An application has been submitted to the Foreign-Trade Zones Board (the Board) by the South Carolina State Ports Authority, grantee of FTZ 21, requesting special-purpose subzone status for the warehousing and distribution facility of Luigi Bormioli Corporation (Luigi Bormioli), located in Barnwell, South Carolina. The application was submitted pursuant to the provisions of the Foreign-Trade Zones Act, as amended (19 U.S.C. 81a-81u), and the regulations of the Board (15 CFR part 400). It was formally filed on February 16, 2010.

The Luigi Bormioli facility (35 employees, 19 acres, $11.5 million in annual shipments) is located at 1656 Fuldner Rd. (Joey Zorn Blvd.), Barnwell, South Carolina. The facility is used for the storage and distribution of glass fragrance containers and glass tableware products (duty rate ranges from 3 to 38%).

FTZ procedures could exempt Luigi Bormioli from customs duty payments on foreign products that are re-exported (approximately 2 percent of shipments). On its domestic sales, the company would be able to defer duty payments until merchandise is shipped from the plant and entered for consumption. FTZ designation would further allow Luigi Bormioli to realize logistical benefits through the use of weekly customs entry procedures. The request indicates that the savings from FTZ procedures would help improve the facility's international competitiveness.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is April 26, 2010. Rebuttal comments in response to material submitted during the foregoing period may be submitted during the subsequent 15-day period to May 11, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via www.trade.gov/ftz.

For further information, contact Maureen Hinman at maureen.hinman@trade.gov or (202) 482-0627.

Dated: February 16, 2010.
Andrew McGilvray,
Executive Secretary.

[FR Doc. 2010-3861 Filed 2-24-10; 8:45 am]

BILLING CODE P